DEPARTMENT OF EDUCATION

[CFDA Number: 84.299B]

Funding Down Slate; Indian Education Professional Development Program

AGENCY: Office of Elementary and Secondary Education, Department of Education.

ACTION: Notice of intent to fund down the fiscal year (FY) 2010 grant slate.

SUMMARY: The Secretary intends to use the existing slate of applications from the FY 2010 competition for the Professional Development Grants program authorized by 20 U.S.C. 7442 to make new grant awards in FY 2011. The Secretary takes this action because there are a significant number of unfunded high-quality applications on the FY 2010 slate and there are very limited funds available for new awards for FY 2011. We expect to use an estimated $1,030,816 for new awards in FY 2011. The actual level of funding depends on the amount of FY 2011 program funds that are available after the Department makes continuation awards.

FOR FURTHER INFORMATION CONTACT: Lana Shaughnessy, U.S. Department of Education, 400 Maryland Ave., SW., room 3E231, Washington, DC 20202-6335. Telephone: (202) 205-2528 or via e-mail: Lana.Shaughnessy@ed.gov.

If you use a telecommunications device for the deaf (TDD), call the Federal Relay Service (FRS), toll free, at 1-800-877-8339.

Individuals with disabilities can obtain this document in an accessible format (e.g., Braille, large print, audiotape, or computer diskette) on request by contacting the person listed under For Further Information Contact.

SUPPLEMENTARY INFORMATION: The Department published a notice inviting applications for new awards under the Professional Development Grant program for FY 2010 in the Federal Register on December 18, 2009 (74 FR 67182). In response to the notice inviting applications, we received a significant number of high-quality applications and made eight awards. However, many applications that received high scores from peer reviewers did not receive grants in FY 2010 because of the limited funds available for the program. In addition, we made additional awards from FY 2011 funds to two applicants that were inadvertently not funded in FY 2010 due to an administrative error.

The FY 2010 slate was based on the selection criteria, application requirements, and definitions referenced in the December 18, 2009 notice inviting applications (74 FR 67182).

Note: To be eligible to receive a grant under this notice all applicants, including all applicants in a consortium of eligible entities, being considered for funding must currently meet all statutory eligibility criteria and demonstrate a commitment to implement the scope and objectives of the project proposed in the application submitted in FY 2010. Only applications from the FY 2010 slate will be considered. Our intent is to fund down the slate in rank order from the last FY 2010 funded application until all available funds are obligated.

Program authority: 20 U.S.C. 7442.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: May 17, 2011.
Thelma Meléndez de Santa Ana,
Assistant Secretary for Elementary and Secondary Education.

[FR Doc. 2011-12501 Filed 5-19-11; 8:45 am]

BILLING CODE 4000-01-P